DEPARTMENT OF HEALTH AND HUMAN SERVICES

Solicitation of Written Comments on the Draft Report of the National Adult Immunization Standards of Practice for Consideration by the National Vaccine Advisory Committee

AGENCY: National Vaccine Program Office, Office of the Assistant Secretary for Health, Office of the Secretary, Department of Health and Human Services.

ACTION: Notice.

SUMMARY: The National Vaccine Advisory Committee (NVAC) was established in 1987 to comply with Title XXI of the Public Health Service Act (Pub. L. 99-660) (§ 2105) (42 U.S. Code 300aa-5 (PDF-78 KB)). Its purpose is to advise and make recommendations to the Director of the National Vaccine Program on matters related to program responsibilities. The Assistant Secretary for Health (ASH) has been designated by the Secretary of Health and Human Services (HHS) as the Director of the National Vaccine Program. The ASH has charged the NVAC with examining the current adult immunization environment by updating adult immunization standards of practice with the intention of ultimately impacting Healthy People 2020 goals. A review group was established to address this charge on behalf of the NVAC. Through discussion and careful review, the group has developed draft recommendations for consideration by the NVAC to achieve this charge. It is anticipated that the draft report, as revised with consideration given to public comment and stakeholder input, will be presented in at the NVAC at the September 2013 meeting for deliberation and decision on their final recommendation. The draft report will be made available for public review and written comment.

DATES: To receive consideration, comments should be received no later than 5:00 p.m. EST on August 16, 2013.

ADDRESSES: 1. The draft report is available on the web at: http://www.hhs.gov/nvpo/nvac/

2. Electronic responses are preferred and may be addressed to nvpo@hhs.gov

3. Written responses should be addressed to: National Vaccine Program Office, U.S. Department of Health and Human Services, 200 Independence Ave. SW., Room 745.H.5, Washington, DC 20201, Attention: Adult Immunization Standards, c/o Shary Jones.

FOR FURTHER INFORMATION CONTACT: Shary Jones, PharmD, MPH, National Vaccine Program Office, U.S. Department of Health and Human Services, Hubert H. Humphrey Building, 200 Independence Ave. SW., Room 745H.5, Washington, DC 20201, Attention: National Adult Immunization Standards, telephone (202) 205-4862, fax (202) 260-1165, email: nvpo@hhs.gov.

SUPPLEMENTARY INFORMATION:

I. Background

August is National Immunization Awareness Month and while the United States has made significant progress toward eliminating vaccine-preventable diseases among children, unacceptably low immunization rates still exist among many adults. Many adults are aware of annual influenza vaccination, but fewer are aware of other recommended adult vaccines. Additionally, there are many types of immunization providers and sites, as well as many missed opportunities occurring to assess patient vaccination needs. An updated version of the National Adult Immunization Standards provides a framework with the purpose of collaboration, coordination, and communication among immunization stakeholders dedicated to meeting the immunization needs of the patient and protecting the community from vaccine preventable diseases.

II. Request for Comment

NVPO, on behalf of the NVAC, requests input on the draft report located on the NVAC Web site at http://www.hhs.gov/nvpo/nvac/. In addition to general comments, NVPO is seeking input on additional gaps not addressed in the National Adult Immunization Standards of Practice draft report, and/or prioritization criteria and its application. Please limit comments to 6 pages.

III. Potential Responders

The Department of Health and Human Services invites input from a broad range of individuals and organizations that have interests in adult immunizations and ways to increase vaccine coverage in adults. Examples of potential responders include, but are not limited to the following:

—general public;

—advocacy groups and public interest organizations;

—state and local governments;

—state and local health departments;

—healthcare professional societies and organizations;

—healthcare organizations.

When responding, please self-identify with any of the above or other categories (include all that apply) and your name. All comments submitted will be publicly available. Anonymous submissions will not be considered and will not be posted.

Written submission should not exceed 6 pages. Any information submitted will be made public. Consequently, do not send proprietary, commercial, financial, business, confidential, trade secret, or personal information that you do not wish to be made public.

Dated: July 24, 2013.
Bruce Gellin,
Director, National Vaccine Program Office.

[FR Doc. 2013-18480 Filed 7-31-13; 8:45 am]

BILLING CODE 4150-44-P